ENVIRONMENTAL PROTECTION AGENCY

[EPA-HQ-OAR-2016-0731; FRL-10017-49-OAR]

Proposed Information Collection Request; Renewal; EPA's Methane Challenge Program

AGENCY: Environmental Protection Agency (EPA).

ACTION: Notice.

SUMMARY: The Environmental Protection Agency is planning to submit a renewal information collection request (ICR), “EPA's Natural Gas STAR and Methane Challenge Programs” (EPA ICR No. 2547.01, OMB Control No. 2060-0722) to the Office of Management and Budget (OMB) for review and approval in accordance with the Paperwork Reduction Act (44 U.S.C. 3501 et seq.). Before doing so, EPA is soliciting public comments on specific aspects of the proposed information collection as described below. Specifically, EPA is proposing to merge the ICR with “EPA's Natural Gas STAR Program” (EPA ICR No. 2004-0082, OMB Control No. 2060-0328). This is a renewal with modification of the existing ICR, which is currently approved through August 31, 2021. An Agency may not conduct or sponsor, and a person is not required to respond to, a collection of information unless it displays a currently valid OMB control number.

DATES: Comments must be submitted on or before March 22, 2021.

ADDRESSES: Submit your comments, referencing Docket ID No. EPA-HQ-OAR-2016-0731 online using www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Patrick Lau, Office of Atmospheric Programs, Climate Change Division, (6207A), Environmental Protection Agency, 1200 Pennsylvania Ave. NW, Washington, DC 20460; telephone number: (202) 564-7312; email address: lau.patrick@epa.gov.

SUPPLEMENTARY INFORMATION: Supporting documents for the two existing ICR, which explain in detail the information that the EPA will be collecting, are available in the public docket for this ICR and the Natural Gas STAR ICR (Docket ID: EPA-HQ-OAR-2016-2004-0082). The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is Necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Natural Gas STAR and Methane Challenge programs (“Gas STAR Programs”) are voluntary programs sponsored by the U.S. Environmental Protection Agency (EPA) that encourage oil and natural gas companies to adopt cost effective technologies and practice that improve operational efficiency and reduce methane emissions. Methane is the primary component of natural gas and a potent greenhouse gas. The Programs work with oil and natural gas companies in the production, gathering & boosting, processing, transmission & storage, and distribution segments to remove barriers that inhibit the implementation of technologies and practices that reduce methane emissions. The Programs effectively promote the adoption of emission reduction technologies and practices by helping partners evaluate Best Management Practices (BMPs) in the context of their current operations and implement them where cost-effective. Implementation of the Programs' BMPs saves participants money, improves operational efficiency, and enhances the protection of the environment. Combining the ICR's for the Methane Challenge and the Natural Gas STAR programs is expected to streamline partners' engagement with the programs and simplify communications about reporting.

Form Numbers: The Natural Gas STAR and Methane Challenge Programs each have Partnership Agreements (“PA”) that describe the terms of participation in the Program. A company that wishes to become a Natural Gas STAR or Methane Challenge partner signs and submits the applicable PA to EPA. The PA forms covered under this ICR include:

• Natural Gas STAR Program—Partnership Agreement: EPA Form No. 5900-105

• Methane Challenge Program—Partnership Agreement for Best Management Practice Commitment Option: EPA Form No. 5900-412

• Methane Challenge Program—Partnership Agreement for ONE Future Emissions Intensity Commitment Option: EPA Form No. 5900-411

Partners agree to complete and submit a Natural Gas STAR or Methane Challenge Implementation Plan (as applicable) within six to twelve months of signing the PA. The Implementation Plan forms covered under this ICR include:

• Natural Gas STAR Program—Production Implementation Plan: EPA Form No. 5900-103

• Natural Gas STAR Program—Transmission Implementation Plan: EPA Form No. 5900-109

• Natural Gas STAR Program—Distribution Implementation Plan: EPA Form No. 5900-97

• Natural Gas STAR Program—Gathering and Processing Implementation Plan: EPA Form No. 5900-100

• Methane Challenge Program—Implementation Plan Template: EPA Form No. 5900-410

After one full year of participation in either Program, partners submit an annual report documenting the previous year's methane emission reduction activities. Partners only need to submit the applicable form(s) for the Program/commitment option/segments they have joined. The annual reporting forms covered under this ICR include:

• Natural Gas STAR Program—Production Reporting Form: EPA Form No. 5900-104

• Natural Gas STAR Program—Transmission Reporting Form: EPA Form No. 5900-95

• Natural Gas STAR Program—Distribution Reporting Form: EPA Form No. 5900-99

• Natural Gas STAR Program—Gathering and Processing Reporting Form: EPA Form No. 5900-102

• Methane Challenge Program—BMP Commitment Option Reporting Form: EPA Form No. 5900-434

• Methane Challenge Program—ONE Future Commitment Option Reporting Form: EPA Form No. 5900-435

Upon becoming a partner in the Methane Challenge Program, companies are given an opportunity to draft and submit a Historical Actions Fact Sheet, which provides information on historical methane reduction actions taken prior to joining Methane Challenge. A two-page fact sheet template is made available to partner companies and allows entry of up to five key methane mitigation activities, including text, photos, and graphics. Submitting this document is not a requirement of the Methane Challenge Program partnership. The fact sheet template covered under this ICR is:

• Methane Challenge Program—Historical Actions Fact Sheet Template: EPA Form No. 5900-413

Respondents/affected entities: The Natural Gas STAR Programs are open to companies in the production segment of the oil industry, and to companies in the production, gathering & boosting, processing, transmission & storage, and distribution segments of the natural gas industry.

Respondent's obligation to respond: Voluntary.

Estimated number of respondents: 97 (Natural Gas STAR) and 58 (Methane Challenge) partners, and 50 vendors (total).

Frequency of response: Annual for partners and semi-annual for vendors.

Total estimated burden: 2,846 hours (per year) for the Natural Gas STAR Program plus 2,978 hours (per year) for the Methane Challenge Program. Burden is defined at 5 CFR 1320.03(b).

Total estimated cost: $268,577.00 (per year) for the Natural Gas STAR Program plus $268,952 hours (per year) for the Methane Challenge Program. There are no capital/start-up costs or O&M costs associated with this information collection.

Changes in Estimates: EPA expects that the burden associated with the final ICR submission for the Methane Challenge Program will increase compared to its previous estimated burden due to modifying this ICR to include the addition of respondents from the Natural Gas STAR Program. However, the final total burden for the total of the two programs is not expected to exceed the sum of the burdens for Natural Gas STAR and Methane Challenge Programs.

Hans Christopher Grundler,
Director, Office of Atmospheric Programs.

[FR Doc. 2021-01070 Filed 1-15-21; 8:45 am]

BILLING CODE 6560-50-P